NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register at 81 FR 49689, and one comment was received. NSF is forwarding the proposed renewal submission to the Office of Management and Budget (OMB) for clearance simultaneously with the publication of this second notice. The full submission may be found at: http://www.reginfo.gov/public/do/PRAMain.

Comments: Comments regarding (a) whether the collection of information is necessary for the proper performance of the functions of the NSF, including whether the information will have practical utility; (b) the accuracy of the NSF's estimate of the burden of the proposed collection of information; (c) ways to enhance the quality, utility and clarity of the information to be collected, including through the use of automated collection techniques or other forms of information technology; (d) ways to minimize the burden of the collection of information on those who are to respond, including through the use of appropriate automated or other forms of information technology should be addressed to: Office of Information and Regulatory Affairs of OMB, Attention: Desk Officer for National Science Foundation, 725 7th Street NW., Room 10235, Washington, DC 20503, and to Suzanne H. Plimpton, Reports Clearance Officer, National Science Foundation, 4201 Wilson Boulevard, Suite 1265, Arlington, Virginia 22230 or send email to splimpto@nsf.gov.

DATES: Comments regarding these information collections are best assured of having their full effect if received within 30 days of this notification. Copies of the submission may be obtained by calling 703-292-7556. NSF may not conduct or sponsor a collection of information unless the collection of information displays a currently valid OMB control number and the agency informs potential persons who are to respond to the collection of information that such persons are not required to respond to the collection of information unless it displays a currently valid OMB control number.

SUPPLEMENTARY INFORMATION:

Comments: As required by 5 CFR 1320.8(d), comments on the information collection activities as part of this study were solicited through publication of a 60-Day Notice in the Federal Register on July 28, 2016, at 81 FR 49689. We received one comment, to which we here respond.

Commenter: The comment requested NSF consider the use of administrative records, specifically the National Student Clearinghouse, to obtain information on education background in lieu of asking this information from respondents on the National Survey of College Graduates (NSCG).

Response: NSF informed the commenter that, at the request of NSF, the Census Bureau's Center for Administrative Records Research and Application is conducting research to compare administrative records data with the NSCG respondent-provided data. This research will inform survey content discussions for future NSCG cycles and will provide insight on the necessity of certain NSCG questionnaire items including the education background items.

After consideration of this comment, we are moving forward with our submission to OMB.

Title of Collection: 2015 National Survey of College Graduates.

OMB Approval Number: 3145-0141.

Type of Request: Intent to seek approval to renew an information collection for three years.

Abstract: The National Survey of College Graduates (NSCG) has been conducted biennially since the 1970s. The 2017 NSCG sample will be selected from the 2015 American Community Survey (ACS) and the 2015 NSCG. By selecting sample from these two sources, the 2017 NSCG will provide coverage of the college graduate population residing in the United States. The purpose of this longitudinal survey is to collect data that will be used to provide national estimates on the science and engineering workforce and changes in their employment, education, and demographic characteristics.

The National Science Foundation Act of 1950, as subsequently amended, includes a statutory charge to “. . . provide a central clearinghouse for the collection, interpretation, and analysis of data on scientific and engineering resources, and to provide a source of information for policy formulation by other agencies of the Federal Government.” The NSCG is designed to comply with these mandates by providing information on the supply and utilization of the nation's scientists and engineers.

The U.S. Census Bureau, as in the past, will conduct the NSCG for NSF. The survey data collection will begin in March 2017 using web and mail questionnaires. Nonrespondents to the web or mail questionnaire will be followed up by computer-assisted telephone interviewing. The individual's response to the survey is voluntary. The survey will be conducted in conformance with Census Bureau statistical quality standards and, as such, the NSCG data will be afforded protection under the applicable Census Bureau confidentiality statues.

Use of the Information: NSF uses the information from the NSCG to prepare congressionally mandated reports such as Women, Minorities and Persons with Disabilities in Science and Engineering and Science and Engineering Indicators. A public release file of collected data, designed to protect respondent confidentiality, will be made available to researchers on the Internet.

Expected Respondents: A statistical sample of approximately 123,500 persons will be contacted in 2017. This 123,500 sample is a 5,500 case increase over the sample size listed in the first notice for public comment in the Federal Register at 81 FR 49689. The larger sample size is needed to account for the increased size of the college-educated population as well as lower response rates in recent years. NSF estimates the 2017 NSCG response rate to be 70 to 80 percent.

Estimate of Burden: The amount of time to complete the questionnaire may vary depending on an individual's circumstances; however, on average it will take approximately 30 minutes to complete the survey. NSF estimates that the total annual burden will be no more than 49,400 hours (=123,500 respondents × 80% response × 30 minutes) during the 2017 survey cycle.

Dated: December 9, 2016.
Suzanne H. Plimpton,
Reports Clearance Officer, National Science Foundation.

[FR Doc. 2016-30395 Filed 12-16-16; 8:45 am]

BILLING CODE 7555-01-P